DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. National Centers of Excellence in Women's Health; Supplemental Community Survey—NEW—The Office of Women's Health (OWH) is currently conducting a study of patient satisfaction and service utilization to assess the National Centers of Excellence (CoE) in Women's Health program. This proposed collection of information would survey women in three communities with a CoE, to compare the data with CoE patient data and national benchmark data. The information will be used to enhance the analysis of the CoE study. Respondents: Individuals; Number of Respondents: 600; Frequency of Response: one-time: Burden per Response: 15 minutes; Total Burden: 150 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington DC 20201. Written comments should be received within 30 days of this notice.

Dated: July 18, 2001.
Kerry Weems,
Acting Deputy Assistant Secretary, Budget.

[FR Doc. 01-19999 Filed 8-8-01; 8:45 am]

BILLING CODE 4150-33-M